ADMINISTRATIVE COMMITTEE OF THE FEDERAL REGISTER

1 CFR Part 11

RIN 3095-AB35

Price Changes to Federal Register Publications

AGENCY: Administrative Committee of the Federal Register (ACFR).

ACTION: Proposed rule.

SUMMARY: The Administrative Committee of the Federal Register (ACFR) proposes increases in the prices charged for the paper and microfiche editions of Federal Register publications. The price changes would apply to the daily Federal Register (paper and microfiche editions), the Federal Register Index, the Code of Federal Regulations (CFR) (paper and microfiche editions), and the Weekly Compilation of Presidential Documents. The Administrative Committee has determined that it is necessary to increase prices to enable the Government Printing Office (GPO) to recover the full cost of producing and distributing Federal Register publications.

DATES: Comment will be accepted through January 16, 2004.

ADDRESSES: You may submit comments by any of the following methods:

• Federal eRulemaking Portal: http://www.regulations.gov. Follow the instructions for submitting comments.

• E-mail: fedreg.legal@nara.gov.

• Fax: 202-741-6026.

• Mail: Office of the Federal Register (NF), National Archives and Records Administration, 700 Pennsylvania Ave., Washington, DC 20408.

• Hand Delivery/Courier: Office of the Federal Register, 800 North Capitol St., NW., Suite 700, Washington, DC 20002.

Instructions: All comments received will be posted on a National Archives and Records Administration (NARA)/Office of the Federal Register (OFR) Web page, including any personal information provided.

Docket: For access to the docket to read comments received, go to http://www.archives.gov/federal_register/acfr/docket.html.

FOR FURTHER INFORMATION CONTACT: Michael White at 202-741-6025, or michael.white@nara.gov.

SUPPLEMENTARY INFORMATION:

Background

Under the Federal Register Act (44 U.S.C. Chapter 15), the Administrative Committee of the Federal Register is responsible for establishing the prices charged for Federal Register publications. The Administrative Committee must set prices according to the funding mechanisms authorized under law for the Federal Register program. By law, Federal Register publications are sold and distributed to the public by GPO's Superintendent of Documents. GPO receives no appropriation for the costs associated with producing Federal Register publications. Operating funds for the sales program are derived from subscribers and single copy buyers. The Administrative Committee periodically reviews data submitted by the Superintendent of Documents to determine whether subscription rates and single copy charges produce sufficient revenue to fully recover the Superintendent of Document's printing, handling, and distribution costs, including postal rate increases.

Over the past decade, the Administrative Committee has balanced two imperatives: the need to produce and price the paper editions of Federal Register publications in a fiscally sound manner, and the public benefit derived from making this essential regulatory information available to the public free of charge online via the GPO Access system (http://www.gpoaccess.gov/nara). Since 1994, when the Administrative Committee began providing online access to the Federal Register, the number of paid subscriptions has declined by 85 percent. The decline in paper subscription revenue far exceeds the savings realized from producing fewer paper copies. Over the same time period in which sales of Federal Register publications have fallen, use of online Federal Register publications through GPO Access has expanded rapidly. Information retrievals from the online edition of the Federal Register grew from just under 15 million documents in calendar year 1996 to over 68 million documents downloaded in calendar year 2002. Over the same period, information retrievals from the online edition of the CFR grew from about 725,000 documents to more than 87 million documents downloaded. At the same time, there are still some subscribers who prefer to pay for the convenience of receiving bound, paper editions for their libraries and internal distribution systems. The price of these paper publications must reflect the economic reality of producing and distributing them.

While the Federal Register Act does not provide any specific guidelines on the prices to be charged for Federal Register publications, the longstanding policy of the Administrative Committee is to operate the program on a break-even basis. Due to fluctuations in subscriptions and single copy buying patterns, some temporary funding shortfalls may be unavoidable. But it is implicit in the statutory scheme that the ACFR and GPO's Superintendent of Documents may not operate the Federal Register sales program over the long term with a built-in deficit caused by a known insufficiency of funds. GPO's current analysis indicates that the portion of its revolving fund dedicated to the Federal Register sales program has been depleted to the point that prices should be raised to support the program in the future.

To determine current costs and prepare a proposed price schedule, the Superintendent of Documents conducted an in-depth study of actual costs from prior years and made conservative estimates of future costs. This proposed rule takes into account GPO's actual production and distribution costs since 2001 and projected costs for fiscal year 2004. The pricing analysis includes GPO's recent cost-cutting initiatives to streamline and improve its operations. Specific actions to cut costs that have been taken or are presently underway include: reducing personnel expenses through an employee buyout plan; reorganizing the Superintendent of Documents organization and operations; consolidating distribution facilities; and closing GPO Bookstores. GPO has also reevaluated and subsequently reduced estimated handling charges as they apply to Federal Register products. The new handling charges of $1.46 per copy for the Federal Register (down from $2.39) and $1.59 for the CFR (down from $2.39) were factored into the pricing analysis. The Administrative Committee believes these efforts will help minimize the need to raise prices of Federal Register publications in the future.

Based on all the information available, the Administrative Committee has determined that it should make price adjustments to certain publications to accurately reflect the current costs of production and distribution, and thereby avoid running a deficit. If the proposed prices are adopted, the Administrative Committee projects that the Federal Register program will achieve full cost recovery. In the current ACFR price regulations, the stated prices include postage. In this proposed rule, the Administrative Committee has decided to exclude postage from the stated prices, except for single issues of certain editions, because postal rate making decisions and timing are entirely beyond the control of the Committee. If the proposed rule is adopted, the prevailing postal rates will be applied to orders, based on the method of delivery requested by customers. The prices for single issues of the Federal Register (paper and microfiche) and the Weekly Compilation of Presidential Documents, and single volumes of the CFR on microfiche, would continue to include postage because the cost of delivery is only a small component of the total cost.

This proposed rule would increase the subscription rates for the paper editions of the daily Federal Register, the Federal Register Index, the Code of Federal Regulations (CFR) and the Weekly Compilation of Presidential Documents. The cost to customers for the LSA (List of CFR Sections Affected), with postage calculated at the current periodical rate, is unchanged. The subscription rates and the single copy prices of the microfiche editions of the daily Federal Register and CFR also will increase slightly. In addition, the Administrative Committee would establish a multi-tiered price schedule for single copies of the Federal Register to account for the true cost of publishing issues of varying size.

The following figures state the proposed percentage of increase for Federal Register publications. To be consistent with past analyses, the calculation includes the current basic postal rates applicable to each publication. Under this analysis, it will be necessary to increase the price of the paper Federal Register subscription by 21 per cent, and the price of the paper CFR subscription by 12 percent. The average increase for all paper Federal Register subscriptions amounts to 16 per cent. The overall price change for paper and microfiche editions combined amounts to a 14 per cent increase. The increases are primarily attributable to higher labor expenses, paper costs, and a substantial decline in sales of printed publications, causing upward pressure on the average cost per subscription. Pricing for the microfiche editions of the Federal Register and the CFR are determined through a competitive bidding process.

While the rate increases discussed in this proposed rule will affect subscribers of the paper and microfiche editions, the success of our online publications demonstrates that the Administrative Committee is fulfilling its mission to provide the broader public with essential information on the functions, actions, and regulatory requirements of the Federal government. The Administrative Committee is constantly engaged in efforts to improve the quality of our online publications, including investments in new technology applications that will enhance e-government services to the public. In early 2003, the OFR and GPO helped the Environmental Protection Agency and other agency partners launch Regulations.gov as part of the President's eRulemaking initiative. OFR and GPO created a one-stop regulatory clearinghouse for this application to enhance public participation in the rulemaking process (see http://www.regulations.gov). This system is based, in large part, on OFR/GPO production systems and online Federal Register publications. More than 2 million users have accessed proposed and final regulations through this new resource, and the system has garnered a number of awards from various e-Government organizations. In addition, GPO, in consultation with OFR, recently completed an effort to thoroughly rewrite and reorganize its Federal Register and CFR web pages to improve the user experience. And GPO is also actively engaged in acquiring a new search and retrieval engine for Federal Register databases, including the e-CFR, which is a prototype for a currently updated, online version of the CFR (http://www.gpoaccess.gov/ecfr). For members of the public who prefer to read the printed editions, GPO continues to provide free access to Federal Register publications at Federal Depository libraries located throughout the nation.

The Proposed Amendments

The increased prices for Federal Register publications are reflected in proposed amendments to 1 CFR part 11. The following rates would be effective 30 days after issuance of a final rule. The annual subscription rate for the daily Federal Register paper edition would be $749. For a combined Federal Register, Federal Register Index and LSA (List of CFR Sections Affected) subscription, the price would be $808. The price of a single copy of the daily Federal Register would be based on the number of pages: $11 for an issue less than 200 pages; $22 for an issue between 200 and 400 pages; and $33 for an issue with more than 400 pages. The annual subscription price of the microfiche edition of the Federal Register, which includes the Federal Register Index and LSA, would be $165. The price of a single copy of the daily Federal Register microfiche edition would be $3. The annual price for the Federal Register Index would be $29. The annual subscription price for the monthly LSA would be $30. The annual subscription rate for a full set of CFR volumes would be $1,019 for the paper edition and $247 for the microfiche edition. The price of a single volume of the CFR microfiche edition would be $4. The annual Subscription rate for the Weekly Compilation of Presidential Documents would be $113. The price of a single copy of the Weekly Compilation of Presidential Documents would be $5.

Regulatory Analyses

Executive Order 12866

The proposed rule has been drafted in accordance with Executive Order 12866, section 1(b), “Principles of Regulation.” The Administrative Committee has determined that this proposed rule is not a significant regulatory action, as defined under section 3(f) of Executive Order 12866.

Regulatory Flexibility Act

The Regulatory Flexibility Act, 5 U.S.C. 601 et seq., does not apply to rate increases necessary to recover the costs to the Government of printing and distributing Federal Register publications. This proposed rule would not have a significant impact on small entities because it would not impose any substantive requirements, and any increased costs could be avoided by accessing Federal Register publications on the Internet via the free GPO Access service. In addition, Federal depository libraries located throughout the nation provide free access to the bound paper editions or microfiche editions of Federal Register publications, as well as free use of computers for access to the online editions.

Federalism

This proposed rule has no federalism implications under Executive Order 13132. It would not impose compliance costs on State or local government or preempt State law.

List of Subjects in 1 CFR Part 11

Code of Federal Regulations, Federal Register, Government publications, Weekly Compilation of Presidential Documents.

For the reasons discussed in the preamble, the Administrative Committee of the Federal Register proposes to amend part 11 of chapter 1 of title 1 of the Code of Federal Regulations as set forth below:

PART 11—SUBSCRIPTIONS

1. The authority citation for part 11 continues to read as follows:

Authority: 44 U.S.C. 1506; sec. 6, E.O. 10530, 19 FR 2709, 3 CFR, 1954-1958 Comp., p. 189.

2. In § 11.2, revise paragraph (a) to read as follows:

§ 11.2 Federal Register.

(a) The subscription price for the paper edition of the daily Federal Register is $749 per year. A combined subscription to the daily Federal Register, the monthly Federal Register Index, and the monthly LSA (List of CFR Sections Affected) is $808 per year for the paper edition, or $165 per year for the microfiche edition. Six-month subscriptions for the paper and microfiche editions are also available at one-half the annual rate. Those prices exclude postage. The prevailing postal rates will be applied to orders according to the delivery method requested. The price of a single copy of the daily Federal Register, including postage, is based on the number of pages: $11 for an issue containing less than 200 pages; $22 for an issue containing 200 to 400 pages; and $33 for an issue containing more than 400 pages. Single issues of the microfiche edition may be purchased for $3 per copy, including postage.

* * * * *

3. In § 11.3, revise paragraph (a) to read as follows:

§ 11.3 Code of Federal Regulations.

(a) The subscription price for a complete set of the Code of Federal Regulations is $1,019 per year for the bound, paper edition, or $247 per year for the microfiche edition. Those prices exclude postage. The prevailing postal rates will be applied to orders according to the delivery method requested. The Government Printing Office sells individual volumes of the paper edition of the Code of Federal Regulations at prices determined by the Superintendent of Documents under the general direction of the Administrative Committee. The price of a single volume of the microfiche edition is $4 per copy, including postage.

* * * * *

4. In § 11.6, revise paragraph (a) to read as follows:

§ 11.6 Weekly Compilation of Presidential Documents.

(a) The subscription price for the paper edition of the Weekly Compilation of Presidential Documents is $113 per year, excluding postage. The prevailing postal rates will be applied to orders according to the delivery method requested. The price of an individual copy is $5, including postage.

* * * * *

5. Revise § 11.7 to read as follows:

§ 11.7 Federal Register Index.

The annual subscription price for the monthly Federal Register Index, purchased separately, in paper form, is $29. The price excludes postage. The prevailing postal rates will be applied to orders according to the delivery method requested.

6. Revise § 11.8 to read as follows:

§ 11.8 LSA (List of CFR Sections Affected).

The annual subscription price for the monthly LSA (List of CFR Sections Affected), purchased separately, in paper form, is $30. The price excludes postage. The prevailing postal rates will be applied to orders according to the delivery method requested.

By order of the Committee.
Dated: December 12, 2003.
Raymond A. Mosley,
Secretary, Administrative Committee of the Federal Register.

[FR Doc. 03-31145 Filed 12-16-03; 8:45 am]

BILLING CODE 1505-02-P